DEPARTMENT OF LABOR

Employment and Training Administration

[TA-W-72,575]

Amended Certification Regarding Eligibility To Apply for Worker Adjustment Assistance

Dell Products LP, Winston-Salem (WS-1) Division, Including On-Site Leased Workers From Adecco, Spherion, Patriot Staffing, Manpower, Teksystems, APN, ICONMA and Staffing Solutions, South East Winston-Salem, North Carolina

In accordance with Section 223 of the Trade Act of 1974, as amended (“Act”), 19 U.S.C. 2273, the Department of Labor issued a Certification of Eligibility to Apply for Worker Adjustment Assistance on March 1, 2010, applicable to workers of Dell Products LP, Winston-Salem (WS-1) Division, including on-site leased workers of Adecco, Spherion, Patriot Staffing, Manpower, TEKsystems, APN, and ICONMA, Winston-Salem, North Carolina. The notice will be published soon in the Federal Register.

At the request of the State Agency, the Department reviewed the certification for workers of the subject firm. The workers are engaged in production of desktop computers.

The company reports that workers leased from Staffing Solutions, South East were employed on-site at the Winston-Salem, North Carolina location of Dell Products LP, Winston-Salem (WS-1) Division. The Department has determined that these workers were sufficiently under the control of the subject firm to be considered leased workers.

Based on these findings, the Department is amending this certification to include workers leased from Staffing Solutions, South East working on-site at the Winston-Salem, North Carolina location of Dell Products LP, Winston-Salem (WS-1) Division.

The amended notice applicable to TA-W-72,575 is hereby issued as follows:

All workers of Dell Products LP, Winston-Salem (WS-1) Division, including on-site leased workers from Adecco, Spherion, Patriot Staffing, Manpower, TEKsystems, APN, ICONMA and Staffing Solutions, South East, Winston-Salem, North Carolina, who became totally or partially separated from employment on or after October 13, 2008, through March 1, 2012, and all workers in the group threatened with total or partial separation from employment on the date of certification through two years from the date of certification, are eligible to apply for adjustment assistance under Chapter 2 of Title II of the Trade Act of 1974, as amended.

Signed at Washington, DC, this 30th day of March 2010.
Elliott S. Kushner,
Certifying Officer, Division of Trade Adjustment Assistance.

[FR Doc. 2010-8865 Filed 4-16-10; 8:45 am]

BILLING CODE 4510-FN-P